DEPARTMENT OF THE INTERIOR

Bureau of Land Management

[LLNVL00000.L51010000.ER0000.LVRWF8520000; N-79734; 9-08807; TAS: 14x5017]

Notice of Availability of the Final Environmental Impact Statement for the Lincoln County Land Act Groundwater Development and Utility Right-of-Way Project, Nevada

AGENCY: Bureau of Land Management, Interior; Cooperating Agencies—U.S. Fish and Wildlife Service, Interior; State of Nevada Department of Wildlife.

ACTION: Notice of availability.

SUMMARY: In accordance with the National Environmental Policy Act of 1969 (NEPA), 42 U.S.C. 4321 et seq., the Bureau of Land Management (BLM) has prepared a Final Environmental Impact Statement (FEIS) that analyzes proposed rights-of-way for groundwater development, conveyance, and utility facilities in Lincoln County, Nevada. This notice announces its availability.

DATES: The BLM will not issue a final decision on the Lincoln County Land Act (LCLA) Groundwater Development and Utility Right-of-Way Project for a minimum of 30 days following the date the Environmental Protection Agency publishes its Notice of Availability in the Federal Register.

ADDRESSES: Copies of the FEIS will be mailed to individuals, agencies, organizations, or companies who previously requested copies or who responded to the BLM on the Draft EIS. Copies of the FEIS are available on request from the BLM Nevada State Office, 1340 Financial Blvd., P.O. Box 12000, Reno, NV 89520, phone 775-861-6681 or e-mail to: nvgwprojects@blm.gov. You may request a hard copy or a compact disc (CD). The document will be available electronically at: http://www.blm.gov/nv/. Copies of the FEIS will be available for review at the following locations in Nevada:

• BLM Nevada State Office, 1340 Financial Blvd., Reno, NV 89502.

• BLM Ely Field Office, 702 North Industrial Way, Ely, NV 89301.

• Public Library, Caliente, NV 89008.

• Public Library, 93 Main Street, Pioche, NV 89043.

• Public Library, 121 W. First North Street, Mesquite, NV 89027.

FOR FURTHER INFORMATION CONTACT: Penny Woods, BLM Project Manager, P.O. Box 12000, Reno, NV 89520, telephone 775-861-6466, or e-mail: nvgwprojects@blm.gov with “Lincoln County Land Act Information Request” in the subject line.

SUPPLEMENTARY INFORMATION: The FEIS describes and analyzes a proposal for groundwater development and utility rights-of-way in the Clover Valley and Tule Desert hydrographic basins as submitted by the Lincoln County Water District (LCWD). The FEIS addresses the proposal as submitted by LCWD; an alternative alignment of pipelines, power lines and facilities; and a no action alternative. Under the proposed action, BLM would issue rights-of-way to LCWD for facilities to develop and convey groundwater in Tule Desert and Clover Valley hydrographic basins to private land for community development on the Lincoln County Land Act tract (identified as the Toquop Planning Area in the Lincoln County Master Plan) north of Mesquite, Nevada. The volume of water to be transported through the proposed facilities could be up to 24,000 acre-feet per year, as authorized by the State of Nevada Water Engineer for appropriation and use by LCWD.

LCWD has applied to the BLM for rights-of-way in accordance with the Lincoln County Conservation, Recreation, and Development Act of 2004, Title V of the Federal Land Policy and Management Act of 1976 and 43 CFR Part 2800 for the following features: the proposed project would be located in unincorporated portions of southeastern Lincoln County, Nevada, and consist of approximately 47 miles of a main transmission pipeline; approximately 54 miles of lateral pipelines; up to 30 production wells; water storage tanks, booster stations, and access roads; 138 kV, 22.8 kV, and 4.16 kV power lines and a power substation; a natural gas pipeline; underground telephone lines; and a telemetry system utilizing a fiber optic line.

On May 23, 2008, the BLM published the Notice of Availability for the Draft EIS for this project in the Federal Register. Nineteen comments were received from individuals, organizations, agencies, and a Native American tribe. Specific comment responses are provided in the FEIS, and issues and concerns raised during the review are addressed in the FEIS.

Authority: 43 CFR Part 2800.

John F. Ruhs,
Ely District Manager.

[FR Doc. E9-9924 Filed 4-30-09; 8:45 am]

BILLING CODE 4310-HC-P